DEPARTMENT OF THE TREASURY

Internal Revenue Service

Open Meeting for the Electronic Tax Administration Advisory Committee (ETAAC)

AGENCY: Internal Revenue Service (IRS), Treasury.

ACTION: Meeting notice.

SUMMARY: An open meeting of the Electronic Tax Administration Advisory Committee (ETAAC) will be conducted via telephone conference call. The ETAAC will discuss recommendations for electronic tax administration which will be published in their Annual Report to Congress by June 30, 2014. The IRS will respond to these recommendations.

DATES: Meeting Date: The meeting will be held on Tuesday, June 24, 2014, beginning at 9:30 a.m. eastern time, ending at approximately 10:30 a.m.

FOR FURTHER INFORMATION CONTACT: Cassandra Daniels at 240-613-6155 or email etaac@irs.gov to receive the call information. Please spell out all names if you leave a voice message.

SUPPLEMENTARY INFORMATION: Background: The Internal Revenue Service established the Electronic Tax Administration Advisory Committee (ETAAC) in 1998 as a result of the Restructuring and Reform Act of 1998 (RRA'98). The primary purpose of ETAAC is to provide an organized public forum for discussion of electronic tax administration issues in support of the overriding goal that paperless filing should be the preferred and most convenient method of filing tax and information returns. The ETAAC members convey the public's perceptions of the IRS electronic tax administration activities, offer constructive observations about current or proposed policies, programs, and procedures, and suggest improvements. The ETAAC's duties are to research, analyze, consider, and make recommendations on a wide range of electronic tax administrative issues and to provide input into the development and implementation of the strategic plan for electronic tax administration.

Meeting Access: The teleconference meeting will be open to the public. Interested members of the public may listen to the ETAAC's discussion of their recommendations. The public may also submit written comments about issues in electronic tax administration for the committee to consider analyzing later this fall to etaac@irs.gov no later than 12 p.m. eastern on June 18, 2014. Written statements received after this date may not be provided to or considered by the ETAAC until its next meeting.

Dated: May 16, 2014.
Diane L. Fox,
Supervisor, Industry Stakeholder Engagement and Strategy Branch.

[FR Doc. 2014-12503 Filed 5-28-14; 8:45 am]

BILLING CODE 4830-01-P